DEPARTMENT OF EDUCATION

[Docket ID ED-2023-IES-0011]

Request for Information on Topics To Address via the National Center for Education Research's R&D Centers

AGENCY: Institute of Education Sciences, Department of Education.

ACTION: Request for information.

SUMMARY: The National Center for Education Research (NCER), a center within the Institute of Education Sciences (IES), is charged with sponsoring sustained research that will lead to the accumulation of knowledge and understanding of the key issues facing education in the 21st century. In carrying out these activities, NCER is required to support not less than 8 Research and Development Centers (R&D Centers) focused on one or more of 11 specified topics (see the list of topics included below in the Background section or see the Education Sciences Reform Act of 2002 (ESRA)). The R&D Centers produce and disseminate rigorous evidence and products that provide practical solutions to important educational problems in the United States. They also provide national leadership in defining research and development directions within their topics. Through this request for information (RFI), NCER is soliciting public input as we seek to identify pressing questions within each of these broad topic areas that an R&D Center would be well-suited to address.

DATES: We must receive your comments by March 6, 2023.

ADDRESSES: Comments must be submitted via the Federal eRulemaking Portal at regulations.gov. However, if you require an accommodation or cannot otherwise submit your comments via regulations.gov, please contact the program contact person listed under FOR FURTHER INFORMATION CONTACT. The Department will not accept comments by email or by fax. To ensure that the Department does not receive duplicate copies, please submit your comments only once. Additionally, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy for comments received from members of the public is to make these submissions available for public viewing in their entirety on the Federal eRulemaking Portal at www.regulations.gov. Therefore, commenters should be careful to include in their comments only information that they wish to make publicly available. We encourage, but do not require, that each respondent include their name, title, institution or affiliation, and the name, title, mailing and email addresses, and telephone number of a contact person for the institution or affiliation, if any.

FOR FURTHER INFORMATION CONTACT: Elizabeth Albro, Commissioner, National Center for Education Research, Institute of Education Sciences, U.S Department of Education, 400 Maryland Avenue SW, Washington, DC 20202-7240. Telephone: (202) 245-8495. You may also email your questions to Elizabeth.Albro@ed.gov, but as described above, comments must be submitted via the Federal eRulemaking Portal at regulations.gov.

If you are deaf, hard of hearing, or have a speech disability and wish to access telecommunications relay services, please dial 7-1-1.

SUPPLEMENTARY INFORMATION:

Background

Section 131(b)(1) of ESRA (20 U.S.C. 9531(b)(1)) describes the mission of NCER, a center within the U.S. Department of Education's Institute of Education Sciences. NCER is directed to sponsor sustained research that will lead to the accumulation of knowledge and understanding of education to—

(A) Ensure that all children have access to a high-quality education;

(B) Improve student academic achievement, including through the use of educational technology;

(C) Close the achievement gap between high-performing and low-performing students through the improvement of teaching and learning of reading, writing, mathematics, science, and other academic subjects; and

(D) Improve access to, and opportunity for, postsecondary education.

As part of our mission to support sustained research, ESRA, sec. 133(c)(1) (20 U.S.C. 9533(c)(1)), directs NCER to support not less than 8 R&D Centers and to assign each center to at least 1 of the 11 topics described in ESRA sec. 133(c)(2). The 11 topics are:

(A) Adult literacy.

(B) Assessment, standards, and accountability research.

(C) Early childhood development and education.

(D) English language learners research.

(E) Improving low achieving schools.

(F) Innovation in education reform.

(G) State and local policy.

(H) Postsecondary education and training.

(I) Rural education.

(J) Teacher quality.

(K) Reading and literacy.

The duties of R&D Centers are to address areas of national need, and to incorporate the potential or existing role of educational technology, where appropriate, in achieving the goals of each center (ESRA, Sec. 133(c)(3)). In addition, ESRA Sec. 133(3)(7) specifies that research conducted by the R&D Centers is to be disaggregated by age, race, gender, and socioeconomic background to the extent feasible. ESRA Sec. 133(c)(4) specifies that support for a national research and development center shall be for a period of not more than 5 years.

Currently, NCER is supporting R&D Centers and Research Networks that focus on the topics of adult literacy, English language learners research, innovation in education reform, State and local policy, postsecondary education and training, rural education, teacher quality, and reading and literacy. NCER can support additional R&D Centers addressing different research questions within these same topics as well as R&D Centers addressing other topics from the list of 11, above. Information about NCER's active and completed R&D Centers is available here: https://ies.ed.gov/ncer/research/randdCenters.asp.

Through this RFI, we seek public comment and input on the highest priority research questions within each of the 11 topics that could be addressed by new R&D Centers, as outlined in the Solicitation of Comments section.

This is a request for information only. This RFI is not a request for proposals (RFP) or a promise to issue an RFP or a notice inviting applications (NIA). This RFI does not commit the Department to contract for any supply or service whatsoever. Further, we are not seeking proposals and will not accept unsolicited proposals for R&D Centers. The Department will not pay for any information or administrative costs that you may incur in responding to this RFI. The documents and information submitted in response to this RFI will not be returned.

We will review every comment, and the comments in response to this RFI will be publicly available on the Federal eRulemaking Portal at www.regulations.gov. Please note that IES will not directly respond to comments.

Solicitation of Comments

We encourage the public, particularly those who are aware of key research questions in any of the 11 topic areas, to address the following questions in their comments:

(1) Of the 11 topics, which three are the most pressing to invest in now, and why?

(2) Within the three topics identified in response to item (1), on what priority research questions could a new R&D Center focus over a 5-year project period?

(3) How would your proposed research questions advance the core mission of NCER's program of research, described in the background section of this document?

(4) Are the identified priority research questions likely to yield any products or insights that could be readily shared and taken up by practitioners and policymakers?

Accessible Format: By request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2023-02182 Filed 2-1-23; 8:45 am]

BILLING CODE 4000-01-P